DEPARTMENT OF THE TREASURY

Internal Revenue Service

Quarterly Publication of Individuals, Who Have Chosen To Expatriate, as Required by Section 6039G

AGENCY: Internal Revenue Service (IRS), Treasury.

ACTION: Notice.

SUMMARY: This notice is provided in accordance with IRC section 6039G, as amended, by the Health Insurance Portability and Accountability Act (HIPPA) of 1996. This listing contains the name of each individual losing United States citizenship (within the meaning of section 877(a)) with respect to whom the Secretary received information during the quarter ending December 31, 2000.

Last name | First name | Middle name
Adderley | Cameron | Edward.
Alharthy | Sanad | Hussein.
Allard | Alexander | Ludovic.
Bacardi Nee Folk | Leslie | Lee.
Bakanauskas | Jeffrey | Arthur.
Bamler | Petja | Richard.
Bard | Philip | Jeremy.
Bauman | John | Ronald.
Beaumont | Celine | Regina.
Bender | John | Felix.
Boersma | Frederick | Lister.
Butt | George | Franklin.
Campbell | Christian | Tyler.
Chartouni | Cameron | Oliver.
Chesterton | Glenn | Everest.
Cirrea | Juan | C.
De Camp | Dominic | Daniel.
De Selliers De Moranvil | Carlos | Philippe.
Elie | Florence | Georges.
Erhardt | Peter | Martin.
Farkash | Marina
Felicio | Ernesto | J.
Fondas | Rose | Aline.
Good | Pauline | Virginia.
Gordon | Lloyd | Grant.
Gottlieb | Marina | Georgette.
Granic | Marc | Michael.
Green | George | Garlan.
Guenther | Karin | Elisabeth.
Hoi | Daniel
Ibarguen | Carlos | Javier.
Jackson | Sidney | Patrick.
Jakobsen, Nee Jepsen | Jyette | Johanne.
Kaercher | Sarita | Yasmine.
Kitchen | Douglas | Alan.
Lesko | Karina | Maria.
Lui | Alexander | Yiu-Nah.
Maas | Daniel | Benjamin.
Mankarios | Jamileh | Mina.
Mann | Susan | W.
McNamer | John | Mark.
Nagy-Kiszelly | Anthony | George.
Ngwal | Ngirataoch | Nick.
Nolder | Gerlinde | Theresia.
Nottage Nee Clepper | Lillian | Opal.
Pelech | Lois | Ellen.
Petersen, Nee Williams | Karen | Eunice.
Pluppins | Shirley | Joanne.
Rashad El Houssy | Bahaa | M.
Roberts | David | J.
Rosales | Christina | L.
Rossy-Quinones | Nicolas
Sands | Robert | Dallen.
Savitsky | Renate | Siglinde.
Schmid-De Gruneck | Sophie | Gabrielle.
Schmidt | Lajos
Sepulveda-Urrejola | Linda | Jane.
Shahmoon | Edmund | Ronnie.
Shahmoon | Ephraim
Siqueland | Erik | Herman.
Spalding | Edward | Sommers.
Tolstoy | Paul
Trott | Nathaniel | Reeve.
Wang | Vincent | Antonio.
Wasile | Elyse | Remsen.
Winz | Anita | Ellen.
Wyatt III | Oscar | Sherman.
Zeev | Nissim | Mordechai.
Zuill | Virginia | Graham.

Approved: February 10, 2001.
Doug Rogers,
Compliance Area 15, Small Business/Self Employed, Territory 3 (Support).

[FR Doc. 01-23717 Filed 9-21-01; 8:45 am]

BILLING CODE 4830-01-P